FEDERAL MARITIME COMMISSION

Ocean Transportation Intermediary License Applicants

Notice is hereby given that the following applicants have been filed with the Federal Maritime Commission an application for license as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Grace Lines,Inc., 1521 Santa Fe Trail, Grand Prairie, TX 75052, Officers: Timothy Stephen Mansfield, Vice President, (Qualifying Individual), Glenda Marie Norman, President.

Hyun Dae Trucking Co., Inc., 3022 S. Western Avenue, Los Angeles, CA 90018, Officer: Hong Rul Kook, President, (Qualifying Individual).

International Services Freight Forwarding Co., 1000 Ponce de Leon Blvd., Suite 212, Coral Gables, FL 33034, Officers: Jose Nunez, Vice President, (Qualifying Individual), Haydee S. Teperman, President.

Jetlink Logistics Bangladesh Ltd., LLC, 2927 41st Avenue, Suite 502D, Long Island City, NY 11101, Officers: Mir A. Rob, President, (Qualifying Individual), Mir N. Haque, Managing Director.

Master Freight Transportes Internacionais Ltd, LLC, 7949 NW 21 Street, Miami, FL 33122, Officer: Oswaldo Santiago De Mesquita, President, (Qualifying Individual).

Seabreeze Logistics Inc., 890 Airport Park Road, Suite 118, Glen Burnie, MD 21061, Officers: Jean Hamilton, President, (Qualifying Individual), Charles Russell, CEO.

United Cargo International, Inc., 1916 NW 82 Avenue, Miami, FL 33126, Officers: Eduardo de Quesada, President, (Qualifying Individual), Michelangelo Lamorte, Vice President.

Unifield Parcel Express dba UPE X, Cargo Building 80, Room 223, Jamaica, NY 11430, Officers: Guido Derlly, President, (Qualifying Individual), Avedik Grigorian, Vice President.

Vankor Logistics Int'l (U.S.A.), Inc., 500 Carson Plaza Dr., Suite #118, Carson, CA 90746, Officers: Eun K. Han, Secretary, (Qualifying Individual).

Chul Heui Choi, President.

Worldtrans Co. dba Worldtrans Container Line, 2300 North Barrington Road, S-400, Hoffman Estates, IL 60195, Officer: Charles B. Ozburn, President, (Qualifying Individual).

Tomcar Investment USA, Inc., 2801 NW 74th Avenue, #170, Miami, FL 33122, Officers: Humberto A. Jimenez, Shipping Manager, (Qualifying Individual), Jose Tomas Duche Pina, Director/President.

Non-Vessel Operating Common Carrier and Ocean Freight Forwarder, Transportation Intermediary Applicants

American Maritime Services and Supplies, Inc., 1922 Tigertail Blvd, Bldg. #12, Dania, FL 33004, Officer: Alberto Pacchioni, President, (Qualifying Individual).

Dolphin Shipping dba Dolphin USA, 5150 E. Pacific Coast Highway, 2nd Fl., Long Beach, CA 90804, Hans J. Dolnitzki, Sole Proprietor.

FMS Logistics, Ltd., 44190 Mercure Circle, Suite 195, Dulles, VA 20166, Officers: Gerard Trampler, Director, (Qualifying Individual), Michael Moore, President.

KCTC International (America), Inc., dba World Bridge Line, 11099 S. La Cienega Blvd., #153, Los Angeles, CA 90045, Officer: Byung Do Moon, President.

Ocean Freight Forwarder—Ocean Transportation Intermediary Applicant

Rose Air, Inc., 181 Hudson Street, 2F, New York, NY 10013, Officers: Luis Garcia, Traffic Coordinator, (Qualifying Individual), Neal Rosenberg, President.

Dated: January 4, 2002.
Theodore A. Zook,
Assistant Secretary.

[FR Doc. 02-561 Filed 1-8-02; 8:45 am]

BILLING CODE 6730-01-P